DEPARTMENT OF ENERGY

Federal Energy Regulatory Commission

[Docket No. RP03-99-001]

CenterPoint Energy Gas Transmission Company; Notice of Compliance Filing

May 15, 2003.

Take notice that on May 12, 2003, CenterPoint Energy Gas Transmission Company (CEGT) tendered for filing as part of its FERC Gas Tariff, Sixth Revised Volume No. 1, First Revised Sheet No. 681, with an effective date of May 12, 2003.

CEGT states that the filing is being made in compliance with the Commission's order issued April 25, 2003 in Docket No. RP03-99-000.

CEGT states that copies of the filing have been mailed to each of CEGT's customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 27, 2003.

Magalie R. Salas,
Secretary.

[FR Doc. 03-12829 Filed 5-21-03; 8:45 am]

BILLING CODE 6717-01-P